DEPARTMENT OF LABOR

Office of Labor-Management Standards

29 CFR Part 403

RIN 1215—AB75; 1245—AA02

Rescission of Form T-1, Trust Annual Report; Requiring Subsidiary Organization Reporting on the Form LM-2, Labor Organization Annual Report; Modifying Subsidiary Organization Reporting on the Form LM-3, Labor Organization Annual Report; LMRDA Coverage of Intermediate Labor Organizations; Final Rule

Correction

In rule document 2010—29226 beginning on page 74936 in the issue of Wednesday, December 1, 2010 make the following correction:

On page 74936, in the second column, under the DATES section, in the second line, “January 3, 2011” should read “January 1, 2011”.

[FR Doc. C1-2010-29226 Filed 12-6-10; 8:45 am]

BILLING CODE 1505-01-D